DEPARTMENT OF LABOR

Employment and Training Administration

[TA-W-52,886]

Savane International Corporation, El Paso Cutting Facility, El Paso, TX; Notice of Termination of Investigation

Pursuant to section 221 of the Trade Act of 1974, as amended, an investigation was initiated on September 22, 2003, in response to a petition filed on behalf of workers at Savane International Corporation, El Paso Cutting Facility, El Paso, Texas.

The petition regarding the investigation has been deemed invalid. In order to establish a valid petition, there must be at least three workers to sign the petition. The petition in this case did not meet this threshold number. Consequently, the investigation has been terminated.

Signed at Washington, DC, this 24th day of September, 2003.
Richard Church,
Certifying Officer, Division of Trade Adjustment Assistance.

[FR Doc. 03-27446 Filed 10-30-03; 8:45 am]

BILLING CODE 4510-30-P